FEDERAL ELECTION COMMISSION

Sunshine Act Meetings

DATE & TIME: Tuesday, July 13, 2004 at 10 a.m.

PLACE: 999 E Street, NW., Washington, DC.

STATUS: This meeting will be closed to the public.

ITEMS TO BE DISCUSSED: Compliance matters pursuant to 2 U.S.C. 437g, Audits conducted pursuant to 2 U.S.C. 437g, 438(b), and title 26, U.S.C. Matters concerning participation in civil actions or proceedings or arbitration. Internal personnel rules and procedures or matters affecting a particular employee.

DATE & TIME: Thursday, July 15, 2004 at 10 a.m.

PLACE: 999 E Street, NW., Washington, DC (ninth floor).

STATUS: This meeting will be open to the public.

ITEMS TO BE DISCUSSED: Correction and Approval of Minutes.

Advisory Opinion 2004-18: Friends of Joe Lieberman by counsel, Cassandra Lentchner.

Advisory Opinion 2004-20: Diane Farrell for Congress by Adam Wood.

Routine Administrative Matters.

FOR FURTHER INFORMATION CONTACT: Mr. Robert Biersack, Acting Press Officer, Telephone: (202) 694-1220.

Mary W. Dove,
Secretary of the Commission.

[FR Doc. 04-15664 Filed 7-6-04; 3:01 pm]

BILLING CODE 6715-01-M